ENVIRONMENTAL PROTECTION AGENCY

[EPA-HQ-OPP-2009-1017; FRL-9369-4]

Product Cancellation Order for Certain Pesticide Registrations

AGENCY: Environmental Protection Agency (EPA).

ACTION: Notice.

SUMMARY: This notice announces EPA's order for the cancellations, voluntarily requested by the registrants and accepted by the Agency, of the products listed in Table 1a and 1b of Unit II., pursuant to the Federal Insecticide, Fungicide, and Rodenticide Act (FIFRA). This cancellation order follows a September 19, 2012 Federal Register Notice of Receipt of Requests from the registrants listed in Table 2a of Unit II. and an October 7, 2010 Federal Register Notice of Receipt of Requests from the registrant listed in Table 2b of Unit II. to voluntarily cancel these product registrations. In the September 19, 2012 and the October 7, 2010 notices, EPA indicated that it would issue an order implementing the cancellations, unless the Agency received substantive comments within the 30 day comment period that would merit its further review of these requests, or unless the registrants withdrew their requests. The Agency did not receive any comments on the September 19, 2012 notice. The Agency received comments on the October 7, 2010 notice, but none merited its further review of the requests. Further, the registrants did not withdraw their requests. Accordingly, EPA hereby issues in this notice a cancellation order granting the requested cancellations. Any distribution, sale, or use of the products subject to this cancellation order is permitted only in accordance with the terms of this order, including any existing stocks provisions.

DATES: The cancellations are effective December 19, 2012.

FOR FURTHER INFORMATION CONTACT: John W. Pates, Jr., Pesticide Re-evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave., NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the Agency taking?

This notice announces the cancellation, as requested by registrants, of 19 products registered under FIFRA section 3. These registrations are listed in sequence by registration number in Tables 1a and 1b of this unit.

Table 1a—Product Cancellations
EPA Registration No. | Product name | Chemical name
002724-00622 | Speer Py-Perm Aqueous Insect Killer #5 | Piperonyl butoxide; Pyrethrins (No Inert Use); Permethrin.
002724-00633 | Speer Py-Perm Aqueous Insect Killer #9 | Piperonyl butoxide; Pyrethrins (No Inert Use); Permethrin.
007405-00073 | Chemi-cap Flying & Crawling Insecticide II | Pyrethrins, Piperonyl butoxide, Permethrin.
011678-00072 | MCW Technical Diflubenzuron | Diflubenzuron.
015300-00011 | Chemical Treatment CT-202 | Poly(oxy-1,2-ethanediyl(dimethylimino)-1,2-ethanediyl(dimethylimino)-1,2-ethanediyl dichloride).
015300-00022 | Chemical Treatment CL-2158 | Poly(oxy-1,2-ethanediyl(dimethylimino)-1,2-ethanediyl(dimethylimino)-1,2-ethanediyl dichloride).
015300-00023 | Chemical Treatment CL-2159 | Poly(oxy-1,2-ethanediyl(dimethylimino)-1,2-ethanediyl(dimethylimino)-1,2-ethanediyl dichloride).
047000-00169 | R & M Flea & Tick Shampoo #3 | Piperonyl butoxide, Pyrethrins.
052867-00001 | Microbiotrol 99W | Poly(oxy-1,2-ethanediyl(dimethylimino)-1,2-ethanediyl(dimethylimino)-1,2-ethanediyl dichloride).
066222-00059 | Propiconazole Technical | Propiconazole.
066330-00371 | Tribenuron-methyl Technical | Tribenuron-methyl.
070908-00003 | NAC 20 | Boric Acid.
073049-00441 | Dinotefuran 0.5% Cockroach Gel Bait Professional | Dinotefuran.
073049-00442 | Dinotefuran 0.5% Roach Bait Stations | Dinotefuran.
073049-00443 | Dinotefuran 0.2% Roach Bait Station | Dinotefuran.
073049-00446 | Shuriken Cockroach Gel | Dinotefuran.
081343-00001 | Mykrostat A-100 | 10,10′-Oxybisphenoxarsine.
CA010023 | Goal 2XL Herbicide | Oxyfluorfen.

Table 1b—Aldicarb Product Cancellation
EPA Registration No. | Product name | Chemical name
264-330 | TEMIK® brand 15G | Aldicarb.

Tables 2a and 2b of this unit include the names and addresses of record for all registrants of the products in the Tables of this unit, in sequence by EPA company number. This number corresponds to the first part of the EPA registration numbers of the products listed in the Tables of this unit.

Table 2a—Registrants of Cancelled Products
EPA Company No. | Company name and address
2724 | Wellmark International, 1501 E. Woodfield Road, Suite 200, West Schaumburg, IL 60173.
7405 | CPC Aeroscience, Inc., P.O. Box 667770, Pompano Beach, FL 33066-7770.
11678 | Makhteshim Chemical Works Ltd., 3120 Highwoods Blvd., Suite 100, Raleigh, NC 27604.
15300 | Chemtreat, Inc., 5640 Cox Road, Glen Allen, VA 23060.
47000 | Chem-Tech, LTD., 4515 Fleur Dr., #303, Des Moines, IA 50321.
52867 | Chemical Equipment Labs, P.O. Box A, Havertown, PA 19083.
66222 | Makhteshim Agan of North America, Inc., 3120 Highwoods Blvd., Suite 100, Raleigh, NC 27604.
66330 | Arysta Life Science North America, LLC., 15401 Weston Parkway, Suite 150, Cary, NC 27513.
70908 | Grow More, Inc., Agent: RegWest Company, LLC., 8203 West 20th Street, Suite A, Greeley, CO 80634-4696.
73049 | Valent BioSciences Corporation, Environmental Science Division, 870 Technology Way, Libertyville, IL 60048-6316.
81343 | MyTech, Inc., 751 Queen Ann Street, Burlington, NC 27217.
CA010023 | Dow AgroSciences, LLC., 9330 Zionsville Rd., 308/2E, Indianapolis, IN 46268-1054.

Table 2b—Registrant of Cancelled Aldicarb Product
EPA Company No. | Company name and address
264 | Bayer CropScience, 2 T.W. Alexander Drive, P.O. Box 12014, Research Triangle Park, NC 27709.

III. Summary of Public Comments Received and Agency Response to Comments

During the public comment period provided, EPA received no comments in response to the September 19, 2012 Federal Register notice announcing the Agency's receipt of the requests for voluntary cancellations of products listed in Table 1a of Unit II. The Agency received comments relating to alternatives and benefits of aldicarb use in response to the October 7, 2010 Federal Register notice announcing the Agency's receipt of the request for voluntary cancellation of the product listed in Table 1b of Unit II. The Agency does not believe that the comments submitted during the comment period merit further review or a denial of the request for voluntary cancellation.

IV. Cancellation Order

Pursuant to FIFRA section 6(f), EPA hereby approves the requested cancellations of the registrations identified in Tables 1a and 1b of Unit II. Accordingly, the Agency hereby orders that the product registrations identified in Tables 1a and 1b of Unit II. are canceled. The effective date of the cancellations that are the subject of this notice is December 19, 2012. Any distribution, sale, or use of existing stocks of the products identified in Tables 1a and 1b of Unit II. in a manner inconsistent with any of the provisions for disposition of existing stocks set forth in Unit VI. will be a violation of FIFRA.

V. What is the Agency's authority for taking this action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register on September 19, 2012 (77 FR 58134) (FRL-9361-1), and October 7, 2010 (75 FR 62129) (FRL-8848-1). The comment periods closed on October 19, 2012, and November 8, 2010, respectively.

VI. Provisions for Disposition of Existing Stocks

Existing stocks are those stocks of registered pesticide products which are currently in the United States and which were packaged, labeled, and released for shipment prior to the effective date of the cancellation action. The existing stocks provisions for the products subject to this order are as follows.

A. For All Products Listed in Table 1a in Unit II

The registrants may continue to sell and distribute existing stocks of products listed in Table 1a of Unit II. until December 19, 2013, which is 1 year after the publication of the Cancellation Order in the Federal Register. Thereafter, the registrants are prohibited from selling or distributing products listed in Table 1a, except for export in accordance with FIFRA section 17, or proper disposal. Persons other than the registrants may sell, distribute, or use existing stocks of products listed in Table 1a of Unit II. until existing stocks are exhausted, provided that such sale, distribution, or use is consistent with the terms of the previously approved labeling on, or that accompanied, the canceled products.

B. For the Product Listed in Table 1b in Unit II

Per a Memorandum of Agreement (MOA) between the Environmental Protection Agency and Bayer CropScience (Bayer) dated August 16, 2010, Bayer may only sell existing stocks of the product listed in Table 1b of Unit II. labeled for use on citrus and potatoes for export consistent with the requirements of FIFRA section 17 or for purposes of proper disposal.

Bayer may only sell or distribute Temik 15G end-use products permitting use on cotton, dry beans, peanut, soybean, sugar beets, and sweet potatoes until December 31, 2014. After that date, Bayer may only distribute such products intended for export consistent with the requirements of FIFRA section 17 or for purposes of proper disposal.

Sale and distribution of Temik 15G labeled for use on cotton, dry beans, peanut, soybean, sugar beets, and sweet potatoes by any other party is permitted until December 31, 2016, and thereafter only for purposes of proper disposal or export consistent with the requirements of FIFRA section 17.

Existing stocks of the Temik 15G labeled for use on cotton, dry beans, peanut, soybean, sugar beets, and sweet potatoes may be used until August 31, 2018, provided that such use is in all respects consistent with the previously approved label, and labeling accompanying the product.

List of Subjects

Environmental protection, Pesticides and pests.

Dated: November 15, 2012.
Richard P. Keigwin, Jr.,
Director, Pesticide Re-evaluation Division, Office of Pesticide Programs.

[FR Doc. 2012-30433 Filed 12-18-12; 8:45 am]

BILLING CODE 6560-50-P